DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 4, 2003.

Interested persons are invited to submit written comments regarding the subject matter of the investigations to the Director, Division of Trade Adjustment Assistance, at the address shown below, not later than December 4, 2003.

The petitions filed in this case are available for inspection at the Office of the Director, Division of Trade Adjustment Assistance, Employment and Training Administration, U.S. Department of Labor, Room C-5311, 200 Constitution Avenue, NW., Washington, DC 20210.

Signed at Washington, DC., this 30th day of October, 2003.
Timothy Sullivan,
Director, Division of Trade Adjustment Assistance.

Appendix
[Petitions instituted between 10/14/2003 and 10/17/2003]
TA-W | Subject firm (petitioners) | Location | Date of institution | Date of petition
53,218 | F/V Cape Lookout (Comp) | Kodiak, AK | 10/14/2003 | 09/22/2003
53,219 | Mycrosensor Technologies (Wkrs) | Phoenix, AZ | 10/14/2003 | 10/07/2003
53,220 | Agilent Technologies (Wkrs) | Loveland, CO | 10/14/2003 | 09/26/2003
53,221 | Inter Metro Industries (USWA) | Wilkes-Barre, PA | 10/14/2003 | 10/10/2003
53,222 | Eastman Kodak Co. (Comp) | Rochester, NY | 10/14/2003 | 10/10/2003
53,223 | Nighswonger Contract Cutting (OR) | Coquille, OR | 10/14/2003 | 06/18/2003
53,224 | Nevamar Co. (Comp) | Odenton, MD | 10/14/2003 | 10/08/2003
53,225 | ASML (Comp) | Hillsboro, OR | 10/14/2003 | 10/01/2003
53,226 | Cavalier Specialty Yarn Co., USA (Comp) | Gastonia, NC | 10/14/2003 | 10/10/2003
53,227 | Voith Paper (Comp) | Salisbury, NC | 10/14/2003 | 10/13/2003
53,228 | Aurora Casket Co. (IBT) | Clarksburg, WV | 10/14/2003 | 10/10/2003
53,229 | Conoco Phillips (Wkrs) | Ponca City, OK | 10/14/2003 | 09/20/2003
53,230 | Amerbelle Corp. (Comp) | Vernon, CT | 10/14/2003 | 10/13/2003
53,231 | GE EM, ITS (Wkrs) | Erlanger, KY | 10/14/2003 | 10/09/2003
53,232 | Fall River Mfg., II (Comp) | Gaffney, SC | 10/14/2003 | 10/11/2003
53,233 | TDK Ferrites Corp. (Wkrs) | Shawnee, OK | 10/14/2003 | 10/13/2003
53,234 | Kendro Laboratory Products (Comp) | Newtown, CT | 10/14/2003 | 09/29/2003
53,235 | Keith Dennis Co., LLC (Comp) | Dandridge, TN | 10/14/2003 | 10/08/2003
53,236 | Analog Devices (Wkrs) | Santa Clara, CA | 10/14/2003 | 10/10/2003
53,237 | Lane Co., Inc. (The) (Wkrs) | Altavista, VA | 10/14/2003 | 10/09/2003
53,238 | West Linn Paper Co. (Comp) | West Linn, OR | 10/14/2003 | 10/07/2003
53,239 | Fairway Products (Comp) | Quincy, MI | 10/14/2003 | 09/26/2003
53,240 | Friedrich Air Conditioning Co. (Comp) | San Antonio, TX | 10/14/2003 | 09/30/2003
53,241 | Art Leather Mfg. Co., Inc. (Comp) | Elmhurst, NY | 10/14/2003 | 09/30/2003
53,242 | Wellington Leisure Products (Comp) | Leesville, SC | 10/14/2003 | 10/07/2003
53,243 | Crown Media Intl./Hallmark Channel (The) (CO) | Greenwood Vill., CO | 10/14/2003 | 10/06/2003
53,244 | Vesuvius USA (Comp) | Champaign, IL | 10/15/2003 | 09/24/2003
53,245 | Twin City Knitting Company, Inc. (Comp) | Newton, NC | 10/15/2003 | 10/10/2003
53,246 | Piedmont Industries, Inc. (Comp) | Hickory, NC | 10/15/2003 | 10/10/2003
53,247 | MT Picture Display Corp. of America (Comp) | Horseheads, NY | 10/15/2003 | 10/13/2003
53,248 | Gateway (Comp) | N. Sioux City, SD | 10/15/2003 | 10/13/2003
53,249 | Louisiana Pacific Corp. (Wkrs) | Mayie Springs, ID | 10/15/2003 | 10/08/2003
53,250 | L.S. Starrett Co., Inc. (Comp) | Alum Bank, PA | 10/15/2003 | 10/15/2003
53,251 | Majestic Mold and Tool, Inc. (Comp) | Phoenix, NY | 10/15/2003 | 10/09/2003
53,252 | Cytec Industries (NJ) | Woodbridge, NJ | 10/15/2003 | 10/14/2003
53,253 | W.R. Thread Cutting Works (UFCW) | Union City, NJ | 10/15/2003 | 10/15/2003
53,254 | Rutgers Organics Corp. (Comp) | State College, PA | 10/15/2003 | 10/07/2003
53,255 | Savane International Corp. (TX) | El Paso, TX | 10/15/2003 | 10/14/2003
53,256 | Connector Service Corp. (Comp) | Elgin, IL | 10/15/2003 | 10/14/2003
53,257 | Waggon Cellers (Wkrs) | Amarillo, TX | 10/15/2003 | 10/06/2003
53,258 | Allied Machine and Engineering Corp (Comp) | Dover, OH | 10/15/2003 | 10/14/2003
53,259 | Oneal Steel, Inc. (Wkrs) | Roanoke, VA | 10/15/2003 | 10/10/2003
53,260 | Detail Tool and Engineering, Inc. (Wkrs) | Ramsey, MN | 10/15/2003 | 10/09/2003
53,261 | International Stone Products, Inc. (USWA) | Barre, VT | 10/15/2003 | 10/03/2003
53,262 | Graphic Packaging International (Comp) | Ft. Atkinson, WI | 10/16/2003 | 10/15/2003
53,263 | Thomson, Inc. (Comp) | Indianapolis, IN | 10/16/2003 | 10/07/2003
53,264 | Burlington Industries B H Finishing (Wkrs) | Burlington, NC | 10/16/2003 | 10/10/2003
53,265 | Panoramic, Inc. (Wkrs) | Janesville, WI | 10/16/2003 | 10/13/2003
53,266 | West Coast Fashion, Inc. (CA) | S. El Monte, CA | 10/16/2003 | 10/14/2003
53,267 | Columbia Forest Products (Wkrs) | Chatham, VA | 10/16/2003 | 10/14/2003
53,268 | JS Popper (NJ) | Little Ferry, NJ | 10/16/2003 | 10/16/2003
53,269 | Weyco Group (UFCW) | Beaver Dam, WI | 10/16/2003 | 10/14/2003
53,270 | C and L Manufacturing Co. (Comp) | Hays, NC | 10/16/2003 | 10/16/2003
53,271 | Stahlsac, Inc. (Comp) | Weaverville, NC | 10/16/2003 | 10/03/2003
53,272 | Capitol Manufacturing (Comp) | Fayetteville, NC | 10/16/2003 | 10/16/2003
53,273 | Tietex International (Comp) | Burlington, NC | 10/17/2003 | 09/22/2003
53,274 | Duluth Missabe and Iron Range Railway (MN) | Duluth, MN | 10/17/2003 | 10/16/2003
53,275 | Hetran, Inc. (Wkrs) | Orwigsburg, PA | 10/17/2003 | 09/26/2003
53,276 | H. Freeman and Sons (UNITE) | Philadelphia, PA | 10/17/2003 | 10/03/2003
53,277 | Ken Lee Precision Corp. (Comp) | Baltimore, MD | 10/17/2003 | 10/13/2003
53,278 | Sherwood Harsco (UAW) | Lockport, NY | 10/17/2003 | 10/03/2003
53,279 | Atchison Products, Inc. (Comp) | Atchison, KS | 10/17/2003 | 09/30/2003
53,280 | Allegheny Ludlum Corp. (Comp) | Pittsburgh, PA | 10/17/2003 | 10/09/2003
53,281 | Dunbrooke Industries (MO) | Independence, MO | 10/17/2003 | 10/15/2003
53,282 | J.P. Morgan Chase Corp. (Wkrs) | Houston, TX | 10/17/2003 | 10/08/2003
53,283 | Remy Reman, LLC (Comp) | Bay Springs, MS | 10/17/2003 | 10/02/2003

[FR Doc. 03-29255 Filed 11-21-03; 8:45 am]

BILLING CODE 4510-30-M